DEPARTMENT OF TRANSPORTATION

Federal Motor Carrier Safety Administration

[Docket No. FMCSA-2015-0049]

Qualification of Drivers; Exemption Applications; Vision

AGENCY: Federal Motor Carrier Safety Administration (FMCSA), DOT.

ACTION: Notice of applications for exemptions, request for comments.

SUMMARY: FMCSA announces receipt of applications from 23 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before July 6, 2015. All comments will be investigated by FMCSA. The exemptions will be issued the day after the comment period closes.

ADDRESSES: You may submit comments bearing the Federal Docket Management System (FDMS) Docket No. FMCSA-2015-0049 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 23 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Michael J. Altobelli

Mr. Altobelli, 39, has had amblyopia in his right eye since childhood. The visual acuity in his right eye is 20/60, and in his left eye, 20/20. Following an examination in 2014, his optometrist stated, “Based on the results of his eye examination, Mr. Altobelli has sufficient vision to perform the driving tasks required to operate a commercial vehicle safely.” Mr. Altobelli reported that he has driven straight trucks for 21 years, accumulating 420,000 miles. He holds a Class B CDL from Connecticut. His driving record for the last 3 years shows no crashes and no convictions for moving violations in a CMV.

Johnny A. Bingham

Mr. Bingham, 46, has had amblyopia strabismus in his left eye since childhood. The visual acuity in his right eye is 20/20, and in his left eye, 20/200. Following an examination in 2015, his optometrist stated, “Field of vision in each eye tests 120 degrees in the horizontal meridians, and has sufficient vision to perform the driving tasks he is required to operate a commercial vehicle.” Mr. Bingham reported that he has driven straight trucks for 8 years, accumulating 4,000 miles, and tractor-trailer combinations for 4 years, accumulating 4,000 miles. He holds a Class A CDL from North Carolina. His driving record for the last 3 years shows no crashes and no convictions for moving violations in a CMV.

Robert A. Buckley

Mr. Buckley, 62, has a retinal detachment in his right eye due to a traumatic incident in childhood. The visual acuity in his right eye is no light perception, and in his left eye, 20/20. Following an examination in 2015, his optometrist stated, “Mr. Buckley has maintained a commercial license for over forty years with no driving incidents. In my opinion, there I [sic] no reason to believe his driving skills are diminished due to his long standing monovision.” Mr. Buckley reported that he has driven straight trucks for 45 years, accumulating 900,000 miles. He holds an operator's license from Indiana. His driving record for the last 3 years shows no crashes and no convictions for moving violations in a CMV.

Allen E. Clark

Mr. Clark, 27, has had amblyopia in his left eye since childhood. The visual acuity in his right eye is 20/30, and in his left eye, 20/60. Following an examination in 2014, his ophthalmologist stated, “In my medical opinion, given his stable eye examination, he has sufficient vision to perform the driving tasks required to operate a commercial vehicle.” Mr. Clark reported that he has driven straight trucks for eight years, accumulating 68,000 miles, and tractor-trailer combinations for five years, accumulating 12,500 miles. He holds a Class A CDL from New York. His driving record for the last 3 years shows no crashes and no convictions for moving violations in a CMV.

Don A. Clymer

Mr. Clymer, 69, has had amblyopia in his right eye since childhood. The visual acuity in his right eye is 20/200, and in his left eye, 20/20. Following an examination in 2015, his optometrist stated, “In my opinion, Mr. Clymer has sufficient acuity to operate a commercial vehicle.” Mr. Clymer reported that he has driven straight trucks for 53 years, accumulating 530,000 miles, and tractor-trailer combinations for 53 years, accumulating 1.33 million miles. He holds an operator's license from Pennsylvania. His driving record for the last 3 years shows no crashes and no convictions for moving violations in a CMV.

Bryan K. Dalton

Mr. Dalton, 51, has had amblyopia in his right eye since childhood. The visual acuity in his right eye is 20/50, and in his left eye, 20/20. Following an examination in 2015, his optometrist stated, “Normal VF no issues driving.” Mr. Dalton reported that he has driven straight trucks for 35 years, accumulating 87,500 miles, tractor-trailer combinations for 33 years, accumulating 660,000 miles, and buses for 3 years, accumulating 3,000 miles. He holds a Class A CDL from North Carolina. His driving record for the last 3 years shows no crashes and no convictions for moving violations in a CMV.

Joseph B. Fry

Mr. Fry, 27, has had amblyopia in his left eye since childhood. The visual acuity in his right eye is 20/20, and in his left eye, 20/60. Following an examination in 2015, his optometrist stated, “With this testing and that performed at the routine eye exam on 1/12/15 the patient has sufficient vision to safely perform the driving tasks required to operate a commercial vehicle.” Mr. Fry reported that he has driven straight trucks for 4 years, accumulating 10,000 miles, and tractor-trailer combinations for 4 years, accumulating 12,000 miles. He holds a Class A CDL from Kansas. His driving record for the last 3 years shows no crashes and no convictions for moving violations in a CMV.

David B. Ginther

Mr. Ginther, 58, has had enucleation in his left eye since 2012 due to ocular melanoma. The visual acuity in his right eye is 20/20, and in his left eye, no light perception. Following an examination in 2015, his optometrist stated, “U.S. Department of Transportation . . . Provided these findings [sic], I certify that Mr. Ginther is able to perform driving tasks with sufficient vision within your standards.” Mr. Ginther reported that he has driven straight trucks for 40 years, accumulating 600,000 miles, and buses for 4 years, accumulating 8,000 miles. He holds an operator's license from Pennsylvania. His driving record for the last 3 years shows no crashes and no convictions for moving violations in a CMV.

Dominic F. Giordano

Mr. Giordano, 47, has had strabismic amblyopia in his left eye since childhood. The visual acuity in his right eye is 20/30, and in his left eye, 20/150. Following an examination in 2014, his optometrist stated, “In my opinion, Mr. Giordano has sufficient vision and peripheral field of vision to perform tasks required to operate a commercial vehicle.” Mr. Giordano reported that he has driven straight trucks for 4 years, accumulating 200,000 miles, and tractor-trailer combinations for 10 years, accumulating 500,000 miles. He holds a Class A CDL from Connecticut. His driving record for the last 3 years shows no crashes and no convictions for moving violations in a CMV.

Thomas E. Groves

Mr. Groves, 53, has had a retinal scar in his right eye since 2013. The visual acuity in his right eye is 20/100, and in his left eye, 20/20. Following an examination in 2014, his optometrist stated, “Although Mr. Groves has a moderate amount of decreased central vision in the right eye, I believe his overall acuity, depth perception, and peripheral vision is sufficient to safely operate a commercial vehicle.” Mr. Groves reported that he has driven straight trucks for 15 years, accumulating 1.69 million miles, and tractor-trailer combinations for 20 years, accumulating 3.5 million miles. He holds a Class A CDL from West Virginia. His driving record for the last 3 years shows no crashes and no convictions for moving violations in a CMV.

Jose J. Guzman-Olguin

Mr. Guzman-Olguin, 47, has had a retinal detachment in his left eye since childhood. The visual acuity in his right eye is 20/20, and in his left eye, light perception. Following an examination in 2014, his optometrist stated, “In my professional opinion, Mr. Guzman is capable of driving a commercial vehicle to the extent his test results conform to the law and with any visual aids that are required by law for monocular driver.” Mr. Guzman-Olguin reported that he has driven straight trucks for 7 years, accumulating 36,400 miles. He holds an operator's license from Illinois. His driving record for the last 3 years shows no crashes and no convictions for moving violations in a CMV.

Stephen T. Hines

Mr. Hines, 58, has a prosthetic left eye due to a traumatic incident in childhood. The visual acuity in his right eye is 20/20, and in his left eye, no light perception. Following an examination in 2014, his ophthalmologist stated, “There is no ocular reason that should prevent you from operating any motor vehicle.” Mr. Hines reported that he has driven straight trucks for 38 years, accumulating 19,000 miles, and tractor-trailer combinations for 35 years, accumulating 2.1 million miles. He holds a Class A CDL from New Jersey. His driving record for the last 3 years shows no crashes and no convictions for moving violations in a CMV.

James J. Keranen

Mr. Keranen, 43, has had amblyopia in his right eye since birth. The visual acuity in his right eye is 20/60, and in his left eye, 20/20. Following an examination in 2014, his optometrist stated, “It is my medical opinion that James Keranan has sufficient vision to perform the driving tasks required to operate a commercial vehicle.” Mr. Keranen reported that he has driven straight trucks for 16 years, accumulating 400,000 miles. He holds a chauffer's license from Michigan. His driving record for the last 3 years shows no crashes and no convictions for moving violations in a CMV.

Wesley S. Kilpatrick

Mr. Kilpatrick, 36, has had angle closure and a retinal detachment causing a visual field defect in his right eye since 2012. The visual acuity in his right eye is 20/40, and in his left eye, 20/15. Following an examination in 2015, his optometrist stated, “In my opinion [sic], Wes Kilpatrick has sufficient vision to perform any task, including the driving requirements to operate a commercial vehicle.” Mr. Kilpatrick reported that he has driven straight trucks for 16 years, accumulating 400,000 miles, tractor-trailer combinations for 16 years, accumulating 160,000 miles, and buses for 12 years, accumulating 132,000 miles. He holds an operator's license from Oklahoma. His driving record for the last 3 years shows no crashes and no convictions for moving violations in a CMV.

Herbert S. Lear

Mr. Lear, 60, has had aphakia in his right eye since 1990. The visual acuity in his right eye is 20/250, and in his left eye, 20/20. Following an examination in 2015, his optometrist stated, “I believe that Mr. Lear has sufficient vision to continue to perform the driving tasks required to operate a commercial vehicle as he has been doing over the past 25 years.” Mr. Lear reported that he has driven straight trucks for 43 years, accumulating 860,000 miles, and tractor-trailer combinations for 43 years, accumulating 215,000 miles. He holds a Class A CDL from Pennsylvania. His driving record for the last 3 years shows no crashes and no convictions for moving violations in a CMV.

Christopher V. May

Mr. May, 53, has had amblyopia in his left eye since childhood. The visual acuity in his right eye is 20/25, and in his left eye, 20/60. Following an examination in 2014, his optometrist stated, “In my medical opinion, Mr. Christopher May has sufficient vision to perform the driving tasks required to operate a commercial vehicle.” Mr. May reported that he has driven straight trucks for 30 years, accumulating 300,000 miles, and tractor-trailer combinations for 22 years, accumulating 880,000 miles. He holds a Class AM CDL from Georgia. His driving record for the last 3 years shows no crashes and no convictions for moving violations in a CMV.

Nathan C. Nissen

Mr. Nissen, 35, has corneal scarring and reduced vision in his right eye due to a traumatic incident in 2003. The visual acuity in his right eye is 20/45, and in his left eye, 20/20. Following an examination in 2014, his optometrist stated, “Based on these findings, I feel Nathan C. Nissen has the visual abilities to continue operating a commercial motor vehicle in interstate commerce because the visual loss in his right eye occurred in 2003 and has been stable since that time.” Mr. Nissen reported that he has driven straight trucks for 14 years, accumulating 9,800 miles, and tractor-trailer combinations for 14 years, accumulating 700,000 miles. He holds a Class A CDL from Iowa. His driving record for the last 3 years shows no crashes and no convictions for moving violations in a CMV.

Jeffery Reed

Mr. Reed, 49, has had amblyopia in his left eye since childhood. The visual acuity in his right eye is 20/20, and in his left eye, 20/50. Following an examination in 2014, his optometrist stated, “U.S. Dept. of Transportation . . . With corrective lenses, I feel that Mr. Reed is safe to drive.” Mr. Reed reported that he has driven tractor-trailer combinations for 27 years, accumulating 2.83 million miles. He holds an operator's license from Kentucky. His driving record for the last 3 years shows no crashes and no convictions for moving violations in a CMV.

Gregory S. Richter, Sr.

Mr. Richter, 59, has had amblyopia in his left eye since childhood. The visual acuity in his right eye is 20/20, and in his left eye, 20/400. Following an examination in 2015, his optometrist stated, “I believe Mr. Richter has sufficient vision to preform [sic] the driving tasks required to operate a commercial vehicle.” Mr. Richter reported that he has driven straight trucks for 35 years, accumulating 1.4 million miles, and tractor-trailer combinations for one year, accumulating 50,000 miles. He holds a Class A CDL from Pennsylvania. His driving record for the last 3 years shows no crashes and no convictions for moving violations in a CMV.

David J. Rotenberger

Mr. Rotenberger, 41, has had amblyopia in his left eye since birth. The visual acuity in his right eye is 20/20, and in his left eye, 20/100. Following an examination in 2014, his optometrist stated, “Based on the exam findings and the fact the Dave has been driving and operating heavy machinery on the farm for the last 25 years without incident, it is my medical opinion that David Rotenberger has sufficient vision to operate a commercial vehicle for farm use.” Mr. Rotenberger reported that he has driven straight trucks for 30 years, accumulating 75,000 miles, and tractor-trailer combinations for 25 years, accumulating 625,000 miles. He holds an operator's license from North Dakota. His driving record for the last 3 years shows no crashes and no convictions for moving violations in a CMV.

George Tomecek, Jr.

Mr. Tomecek, 54, has had amblyopia in his right eye since birth. The visual acuity in his right eye is 20/500, and in his left eye, 20/20. Following an examination in 2015, his optometrist stated that Mr. Tomecek does not have any conditions or diseases that would make him an unsafe driver. Mr. Tomecek reported that he has driven straight trucks for 28 years, accumulating 336,000 miles. He holds a Class B CDL from Pennsylvania. His driving record for the last 3 years shows no crashes and no convictions for moving violations in a CMV.

Richard G. Vaughn

Mr. Vaughn, 71, has had complete loss of vision in his right eye since 2012 due to a central vein occlusion. The visual acuity in his right eye is hand motion, and in his left eye, 20/20. Following an examination in 2015, his optometrist stated, “Mr. Vaughn has been driving commercially since his vision loss in 2012. He should have sufficient vision to perform the driving tasks required to operate a commercial vehicle.” Mr. Vaughn reported that he has driven straight trucks for 8 years, accumulating 80,000 miles, and tractor-trailer combinations for 40 years, accumulating 5.5 million miles. He holds a Class A CDL from North Carolina. His driving record for the last 3 years shows no crashes and no convictions for moving violations in a CMV.

Paul C. Weiss

Mr. Weiss, 56, has had amblyopia in his right eye since childhood. The visual acuity in his right eye is 20/70, and in his left eye, 20/20. Following an examination in 2015, his optometrist stated, “In my opinion, Mr. Weiss has sufficient vision to perform driving tasks required to operate a commercial vehicle.” Mr. Weiss reported that he has driven straight trucks for 38 years, accumulating 3.04 million miles. He holds a Class A CDL from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0049 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0049 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued On: May 22, 2015.
Larry W. Minor,
Associate Administrator for Policy.

[FR Doc. 2015-13486 Filed 6-2-15; 8:45 am]

BILLING CODE 4910-EX-P